DEPARTMENT OF HEALTH AND HUMAN SERVICES

Centers for Disease Control and Prevention

[30Day-14-14GW]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Total Worker Health for Small Business—New—National Institute for Occupational Safety and Health (NIOSH), Centers for Disease Control and Prevention (CDC).

Background and Brief Description

The mission of the National Institute for Occupational Safety and Health (NIOSH) is to promote safety and health at work for all people through research and prevention. In this capacity, NIOSH will administer in-depth interviews designed to assess perceptions and opinions among small business owners in the Cincinnati/Northern Kentucky area regarding the Total Worker Health concept. This information will guide the development of a model for diffusion of the Total Worker Health approach among small businesses by community organizations. Total Worker Health for Small Business is a four-year field study whose overall goal is to identify the perceived costs and benefits of offering integrated occupational safety and health (OSH) and workplace wellness services to employees among small businesses (SBs), and to inform methods that will successfully diffuse the use of a Total Worker Health approach among small businesses and the community organizations that serve them. The data gathered in this study regarding small businesses' specific training needs, motivational factors, and preferred information sources will be of significant practical value when designing and implementing future interventions.

The proposed in-depth interviews described here for which Office of Management and Budget review and approval is being requested are a critical step toward the development of this TWH diffusion model. Phase 1 of this project included interview development and revision. The primary goal of Phase 2 of this project is to gather key-informant perceptions and opinions among the target audience, small business owners in the Cincinnati/Northern Kentucky area. Data gathered from in-depth interviews will guide the development of efforts to diffuse the Total Worker Health approach among small businesses and the community organizations which serve them.

About 90% of U.S. employer organizations have fewer than 20 employees, and 62% have less than five. Eighteen percent of all U.S. employees work for businesses that have less than 20 employees. In addition, more than 21 million U.S. businesses have zero employees, meaning that, although they are not counted as employees, the owner is also the worker. Workers in smaller organizations endure a disproportionate share of the burden of occupational injuries, illnesses, and fatalities.

There is no data available on the prevalence of TWH programs in smaller organizations. What is known about smaller organizations is divided into information about health protection and health promotion activities. Smaller organizations engage in fewer safety activities than larger organizations. The need for reaching this population with effective, affordable, and culturally appropriate training has been documented in publications and is increasingly becoming an institutional priority at NIOSH. Given the numerous obstacles which small business owners face in effectively managing occupational safety and health (e.g., financial and time constraints), there is a need for identifying the most crucial components of occupational safety and health and health promotion training.

This interview will be administered to a sample of approximately 60 owners of small businesses with 5-49 employees from the Cincinnati/Northern Kentucky area. Each participant will be administered the survey two times, approximately one year apart to assess for changes in perceptions regarding health protection and health promotion activities. The sample size is based on recommendations related to qualitative interview methods and the research team's prior experience.

Participants for this data collection will be recruited with the assistance of contractors who have successfully performed similar tasks for NIOSH in the past. Participants will be receive $50 as a token of appreciation for their time. The interview questionnaire will be administered verbally to participants in English.

Once this study is complete, results will be made available via various means including print publications and the agency internet site. The information gathered by this project could be used by OSHA, state health department, occupational health providers to determine guidelines for the development of appropriate training materials for small businesses. The results of this project will benefit small business workers by developing recommendations for increasing the effectiveness of occupational safety and health outreach methods specifically targeted to small businesses. Although beyond the scope of this study, it is expected that improved use of TWH programs will lower rates of injuries and fatalities for workers. The total burden hours are 180.

There is no cost to respondents other than their time.

Estimated Annualized Burden Hours
Type of respondents | Form name | Number of respondents | Number of responses per respondent | Average burden per response (in hours)
Small Business Owners | Interview Probes | 60 | 2 | 1.5

LeRoy Richardson,
Chief, Information Collection Review Office, Office of Scientific Integrity, Office of the Associate Director for Science, Office of the Director, Centers for Disease Control and Prevention.

[FR Doc. 2014-11782 Filed 5-20-14; 8:45 am]

BILLING CODE 4163-18-P